DEPARTMENT OF STATE

22 CFR Part 22

[Public Notice 4765]

RIN 1400-AB94

Schedule of Fees for Consular Services, Department of State and Overseas Embassies and Consulates; Proposed Rule

AGENCY: Bureau of Consular Affairs, State.

ACTION: Proposed rule.

SUMMARY: This rule proposes adjustments in current fees for consular services. These adjusted fees would take effect on October 1, 2004. Specifically, the rule makes changes in the Schedule of Fees for Consular Services (“Schedule of Fees” or “Schedule”). The primary objective of the adjustments to the Schedule of Fees is to ensure that the costs of consular services are recovered through user fees to the maximum extent appropriate and permitted by law. The Department of State has reviewed its current consular fees in connection with completion of a new cost of services study. As a result of that review, there are nine proposed fee changes on the Schedule, of which seven are increases and two are decreases of existing fees. Most notably, the Schedule increases the Diversity Visa Lottery surcharge for immigrant visa application from $100 to $375 to make this particular surcharge more consistent with the costs the Department is authorized to recover through the surcharge and with the full-cost recovery basis on which other consular fees are set and collected. In addition, the Schedule incorporates changes in the Department of Homeland Security (DHS) fees that the Department of State collects on behalf of DHS that went into effect on April 30, 2004. Certain consular services performed for no fee are included in the Schedule so that members of the public will be aware of significant consular services provided by the Department that they may request and for which they will not be charged. A minor technical change is also being made in the Schedule by combining the “no fee” service of loan processing with the “no fee” services relating to the welfare and whereabouts of a U.S. citizen.

DATES: Written comments must be received on or before August 18, 2004.

ADDRESSES: Interested persons are invited to submit written comments to: Office of the Executive Director, Bureau of Consular Affairs, Department of State, Suite H1004, 2401 E Street, NW., Washington, DC 20520. Individuals submitting written comments are requested to identify their comments as “Comments on Schedule of Fees.” Comments so addressed may be submitted through the U.S. Postal Service or by electronic mail to fees@state.gov. This document may also be viewed and comments submitted by going to the “regulations.gov” Web site at http://www.regulations.gov/index.cfm.

FOR FURTHER INFORMATION CONTACT: Phillip Min, Office of the Executive Director, Bureau of Consular Affairs, telefax: (202) 663-2499; e-mail: fees@state.gov.

SUPPLEMENTARY INFORMATION:

Background

The majority of the Department of State's consular fees are established pursuant to the general user charges statute, 31 U.S.C. 9701, and/or 22 U.S.C. 4219, which, as implemented through Executive Order 10718 of June 27, 1957, authorizes the Secretary of State to establish fees to be charged for official services provided by embassies and consulates. Fees established under these authorities include fees for immigrant and nonimmigrant visa processing, for fingerprints, and for overseas citizens services. In addition, a number of statutes address specific fees. Passport application fees (including the cost of passport issuance and use) are authorized by 22 U.S.C. 214, as are fees for the execution of passport applications. (This provision was amended on November 29, 1999, by Public Law 106-113, to permit collection of a nonrefundable application fee subject to promulgation of implementing regulations, which are at 22 CFR parts 51 and 53.) Section 636 of the Illegal Immigration Reform and Immigrant Responsibility Act of 1996, Public Law 104-208, 110 Stat. 3009-703-704 (Sept. 30, 1996), authorizes establishment of a diversity visa application fee to recover the full costs of the visa lottery conducted pursuant to Sections 203 and 222 of the Immigration and Nationality Act (INA), 8 U.S.C. 1153, 1202, but to be paid only by those who are selected through the lottery process and apply for a visa (so that those who are selected and apply for a visa pay the costs of participation for those who registered in the lottery but were not selected). Nonimmigrant visa reciprocity fees are authorized and, in fact, generally required, pursuant to Section 281 of the INA, 8 U.S.C. 1351. Notwithstanding the general rule of reciprocity, however, a cost-based, nonimmigrant visa processing fee for the machine readable visa (MRV) and for a combined border crossing and nonimmigrant visa card (BCC) (22 CFR 41.32) is authorized by Section 140(a) of the Foreign Relations Authorization Act, Fiscal Years 1994 and 1995, Public Law 103-236 (April 30, 1994). Certain persons are exempted by law or regulation from payment of specific fees. These exemptions are noted in the fee schedule and include the nonimmigrant visa fee exemptions set forth in 22 CFR 41.107 for certain individuals who engage in charitable activities or who qualify for diplomatic visas. In addition, aliens under age 15 are in certain circumstances entitled to a combined MRV/BCC for a statutorily established fee of $13, which is below the full cost of service, pursuant to Section 410 of Title III of the Commerce, Justice, State Appropriations Act enacted as part of the Omnibus FY 1999 Appropriations Act, Public Law 105-277 (Oct. 21, 1998). Various statutes also permit the Department to retain some of the consular fees it collects. These are, at present, the MRV and BCC fees, the passport expedite fee, the fingerprint fee, the J Visa Waiver fee, the Diversity Visa Lottery fee, and the Affidavit of Support fee.

With the exception of nonimmigrant visa reciprocity fees, which are established based on the practices of other countries, all consular fees are established on a basis of cost recovery and in a manner consistent with general user charges principles, regardless of the specific statutory authority under which they are promulgated. As set forth in OMB Circular A-25, the general policy underlying user charges is that a reasonable charge should be made to each identifiable recipient for a measurable unit or amount of government service or property from which the user derives a special benefit. The OMB guidance covers all Federal Government activities that convey special benefits to recipients beyond those that accrue to the general public. The Department of State is required to review consular fees periodically to determine the appropriateness of each fee in light of applicable provisions of OMB Circular A-25. While services of direct benefit to individuals, organizations or groups should be paid for by the users rather than by taxpayers in general, the guidelines state that services performed for the primary benefit of the general public or the U.S. Government should be supported by tax revenues. The changes set forth in the proposed Schedule of Fees reflect these guidelines.

The last major update of the Schedule of Fees was in 2002. Consistent with OMB Circular A-25, the Department conducted a cost-of-service study to determine the current direct and indirect costs associated with each consular service the Department provides, so that the Schedule could be updated. The study was supervised by the Bureau of Consular Affairs and performed with the assistance of an independent contractor. The contractor and Department staff surveyed and visited domestic and overseas consular sites handling a representative sample of all consular services worldwide. This review attempted to identify the fully allocated costs of consular services (direct and indirect).

In situations where services are provided often enough to develop a reliable estimate of the average time involved, the Schedule generally sets a flat service fee. In other situations where services are not provided often enough, the fee was calculated based on the consular hourly rate. In either case, the fee is designed to recover some or all—but not more than—actual fully allocated costs the Department expects to incur over the period that the Schedule will be in effect. When the fee is set below costs, the remaining cost is either recovered through allocation to related services for which fees are charged, or will be covered by taxpayers through appropriations. (Detailed information concerning the methodology of the study is available from the Bureau of Consular Affairs.) Based on this effort and subsequent analysis, the Department is now proposing adjustments to the Schedule of Fees. Notable changes to the schedule are discussed below.

File Search and Verification of U.S. Citizenship

The fee to search Department of State files to verify an applicant's U.S. citizenship is being increased from $45 to $60. The $60 fee is still well below the actual cost of the service, and the remaining costs will continue to be recovered through the passport fee because this file search is almost always associated with a passport application. The fee is set slightly higher than the $55 adult passport application fee (which remains unchanged in the proposed Schedule) in order to encourage applicants to provide adequate citizenship documentation when applying for a passport rather than to request a costly, time-intensive file search by the Department to verify their U.S. citizenship. The fee remains below cost, however, to mitigate its impact on U.S. citizens who have lost all identification and need to have their citizenship verified by the Department of State so that they may obtain a replacement passport.

Diversity Visa Lottery Surcharge for Immigrant Visa Application

The Schedule increases the Diversity Visa (DV) Lottery surcharge for a diversity immigrant visa application from $100 to $375. The Department has legal authority to collect the surcharge only from persons who are selected through the lottery process and therefore qualify to apply for a DV visa, and to set it at a level sufficient to cover the entire cost of running the lottery. The current $100 DV fee recovers only some of the costs of the program, with remaining costs recovered through appropriations. In order to make the DV surcharge more consistent with the costs the Department is authorized to recover through the surcharge and with the full-cost recovery basis on which other consular fees are set and collected, the proposed increase allows for full recovery of all costs, both direct and indirect, from those who are selected through the lottery process and apply for a DV visa. The fee will continue to be collected from everyone selected in the lottery who pursues an application for DV status.

Affidavit of Support Review

The Affidavit of Support Review fee is charged domestically for all Affidavits of Support reviewed at the National Visa Center to ensure that they are properly completed before they are forwarded to a consular post for adjudication. The fee is being increased from $65 to $70 to reflect the increase in the cost of providing this service to immigrant visa applicants. The actual cost of the service will be recovered in its entirety from the applicant through this increased fee.

Determining Returning Resident Status

The fee for this service has increased from $360 to $400. Even with the increase, the full costs for this service will not be recovered from the applicant. The balance of the costs associated with this service will still be recovered through the Immigrant Visa (IV) fee because immigrant visa applicants themselves may eventually benefit from the service of determining returning resident status. The $40 increase in the fee is based on maintaining this fee at the same percentage of the actual cost of service as the percentage used previously to set this particular fee.

Transportation Letter for Legal Permanent Residents of the U.S.

The proposed Schedule decreases the fee for a transportation letter issued to a Legal Permanent Resident Alien (LPRA) who needs a transportation letter to reenter the U.S. from $300 to $165. The new fee reflects the unit cost for this service as determined by the recent cost-of-service study.

Waiver of 2 Year Residency Requirement

The fee for this service has decreased by $15, from $230 to $215. The fee reflects the actual cost of providing this service to J visa applicants as determined by the recent cost-of-service study.

Processing Letters Rogatory and Foreign Sovereign Immunities Act (FSIA) Judicial Assistance Cases

The fee for these services will increase from $650 to $735. As with the fee for the service of determining returning resident status, this $735 does not recover the full cost of the service. The remaining costs are recovered through appropriations because it is in the interest of the United States Government to support these international legal processes. The $85 increase in the fee is based on recovering the same percentage of the actual cost of service as was recovered by the previous fee.

Consular Time

The Schedule raises from $235 to $265 the fee charged on an hourly basis for consular time. This fee is charged for fee services performed away from the office or after normal working hours. It is also the fee that is used as the basis for fees for other services that are based on consular time calculations, including services related to vessels and seamen, attending or taking depositions, sealing and certifying depositions (increasing the fee from $60 to $70), supervising and swearing in witnesses for telephone depositions, and making arrangements for a deceased non-U.S. citizen family member. The $265 reflects the actual unit cost of this service on a full-cost recovery basis, as determined by the most recent cost-of-service study.

Loan Processing

The current Schedule lists loan processing as item 13 and a separate “no fee” service in the category of arrests, welfare and whereabouts, and related services under the heading of Overseas Citizens Services. In the new schedule, this item is being combined with item 12, which is assistance regarding the welfare and whereabouts of a U.S. citizen, including child custody inquiries. This is a purely technical change in the Schedule to shorten it and reflect that the kinds of loans covered by former item 13 are aspects of the Department's no-fee welfare and whereabouts work.

Regulatory Findings

Administrative Procedure Act

The Department is publishing this rule as a proposed rule with a 30-day provision for public comments.

Regulatory Flexibility Act

The Department of State, in accordance with the Regulatory Flexibility Act (5 U.S.C. 605(b)), has reviewed this regulation and, by approving it, certifies that this rule will not have a significant economic impact on a substantial number of small entities as defined in 5 U.S.C. 601(6).

Unfunded Mandates Reform Act of 1995

This rule will not result in the expenditure by state, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of the United States-based companies to compete with foreign-based companies in domestic and export markets.

Executive Order 12866

The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in that Executive Order. In addition, OMB has been provided with an information copy of the proposed regulation.

Executive Order 12988: Civil Justice Reform

The Department has reviewed this regulation in light of sections 3(a) and 3(b)(2) of Executive Order No. 12988 to eliminate ambiguity, minimize litigation, establish clear legal standards, and reduce burden.

Executive Order 13132

This regulation will not have substantial direct effects on the states, on the relationship between the national government and the states, or on the distribution of power and responsibilities among the various levels of government. Therefore, in accordance with section 6 of Executive Order 13132, it is determined that this rule does not have sufficient federalism implications to warrant the preparation of a federalism summary impact statement.

Paperwork Reduction Act

This rule does not impose any new reporting or record-keeping requirements.

List of Subjects in 22 CFR Part 22

Consular services, Fees, Schedule of fees for consular services, Passports and visas.

Accordingly, an amendment to part 22 CFR part 22 is proposed as follows:

PART 22—[AMENDED]

1. The authority citation for part 22 continues to read as follows:

Authority: 8 U.S.C. 1153 note, 1351, 1351 note; 10 U.S.C. 2602(c); 22 U.S.C. 214, 2504(a), 4201, 4206, 4215, 4219; 31 U.S.C. 9701; Pub. L. 105-277, 112 Stat. 2681 et seq.; E.O. 10718, 22 FR 4632, 3 CFR, 1954-1958 Comp., p. 382; E.O. 11295, 31 FR 10603, 3 CFR, 1966-1970 Comp., p. 570.

2. Section 22.1 is revised to read as follows:

§ 22.1 Schedule of fees.

The following table sets forth the U.S. Department of State's Schedule of Fees for Consular Services:

Schedule of Fees for Consular Services
Item No. | Fee.
Passport and Citizenship Services
1. Passport Execution: Required for first-time applicants and others who must apply in person [01—Passport Execution] | $30.
2. Passport Application Services for:
(a) Applicants age 16 or over (including renewals) [02-Adult Passport] | $55.
(b) Applicants under age 16 [03—Minor Passport] | $40.
(c) Passport amendments (extension of validity, name change, etc.) [04—Amendment] | No fee.
3. Expedited service: Three-day processing and/or in-person service at a U.S. Passport Agency (not applicable abroad) [Expedited Service] | $60.
4. Exemptions: The following applicants are exempted from passport fees:
(a) Officers or employees of the United States and their immediate family members (22 U.S.C. 214) and Peace Corps Volunteers and Leaders (22 U.S.C. 2504(a)) proceeding abroad or returning to the United States in the discharge of their official duties [05—Passport Exempt] | No fee.
(b) U.S. citizen seamen who require a passport in connection with their duties aboard an American flag vessel (22 U.S.C. 214) [05—Passport Exempt] | No fee.
(c) Widows, children, parents, or siblings of deceased members of the Armed Forces proceeding abroad to visit the graves of such members (22 U.S.C. 214) [05-Passport Exempt] | No fee.
(d) Employees of the American National Red Cross proceeding abroad as members of the Armed Forces of the United States (10 U.S.C. 2603) [05—Passport Exempt] | No fee.
5. Travel Letter: Provided as an emergency accommodation to a U.S. citizen returning to the United States when the consular officer is unable to issue a passport book. (Consular time charges, item 75, may apply) [06—U.S.C. Travel Letter] | No fee.
16. File search and verification of U.S. citizenship: When applicant has not presented evidence of citizenship and previous records must be searched (except for an applicant abroad whose passport was stolen or lost abroad or when one of the exemptions is applicable) [07-PPT File Search] | $60.
7. Application for Report of Birth Abroad of a Citizen of the United States [08—Report Birth Abroad] | $65.
(item no. 8 through 10 vacant)
Overseas Citizens Services
Arrests, Welfare and Whereabouts, and Related Services
11. Arrest and prison visits | No fee.
12. Assistance regarding the welfare and whereabouts of a U.S. citizen, including child custody inquiries and processing of repatriation and emergency dietary assistance loans | No fee.
(item no. 13 vacant)
Death and Estate Services
14. Assistance to next-of-kin:
(a) After the death of a U.S. citizen abroad (providing assistance in disposition of remains, making arrangements for shipping remains, issuing Consular Mortuary Certificate, and providing up to 20 original Consular Reports of Death) | No fee.
(b) Making arrangements for a deceased non-U.S. citizen family member (providing assistance in shipping or other disposition of remains of a non-U.S. citizen) [11—Non U.S.C. Death] | Consular time (item 75) plus expenses.
15. Issuance of Consular Mortuary Certificate on behalf of a non-U.S. citizen [12—Non-U.S.C. Mort Cert] | $60.
16. Acting as a provisional conservator of estates of U.S. citizens:
(a) Taking possession of personal effects; making an inventory under an official seal (unless significant time and/or expenses incurred) | No fee.
(b) Overseeing the appraisal, sale, and final disposition of the estate, including disbursing funds, forwarding securities, etc. (unless significant time and/or expenses incurred) | No fee.
(c) For services listed in 16(a) or (b) when significant time and/or expenses are incurred [13—Estate Costs] | Consular time (item 75) and/or expenses.
(Items no. 17 through 20 vacant)
Nonimmigrant Visa Services
21. Nonimmigrant visa application and border crossing card processing fees (per person):
(a) Nonimmigrant visa [21—MRV Processing] | $100.
(b) Border crossing card—10 year (age 15 and over) [22—BCC 10 Year] | $100.
(c) Border crossing card—5 year (under age 15). For Mexican citizen, if parent or guardian has or is applying for a border crossing card [23—BCC 5 Year] | $13.
22. Exemptions from nonimmigrant visa application processing fee:
(a) Applicants for A, G, C-3, NATO and diplomatic visas as defined in 22 CFR 41.26 [24—MRV Exempt] | No fee.
(b) Applicants for J visas participating in official U.S. Government-sponsored educational and cultural exchanges [24—MRV Exempt] | No fee.
(c) Replacement machine-readable visa when the original visa was not properly affixed or needs to be reissued through no fault of the applicant [24—MRV Exempt] | No fee.
(d) Applicants exempted by international agreement as determined by the Department, including members and staff of an observer mission to United Nations Headquarters recognized by the UN General Assembly, and their immediate families [24—MRV Exempt] | No fee.
(e) Applicants traveling to provide charitable services as determined by the Department [24—MRV Exempt] | No fee.
(f) U.S. Government employees traveling on official business [24—MRV Exempt] | No fee.
23. Nonimmigrant visa issuance fee, including border-crossing cards [25—NIV Issuance Reciprocal] | Reciprocal.
24. Exemptions from nonimmigrant visa issuance fee:
(a) An official representative of a foreign government or an international or regional organization of which the U.S. is a member; members and staff of an observer mission to United Nations Headquarters recognized by the UN General Assembly; and applicants for diplomatic visas as defined under item 22(a); and their immediate families [26—NIV Issuance Exempt] | No fee.
(b) An applicant transiting to and from the United Nations Headquarters [26—NIV Issuance Exempt] | No fee.
(c) An applicant participating in a U.S. Government-sponsored program [26—NIV Issuance Exempt] | No fee.
(d) An applicant traveling to provide charitable services as determined by the Department [26—NIV Issuance Exempt] | No fee.
(Items no. 25 through 30 vacant)
Immigrant and Special Visa Services
31. Filing immigrant visa petition (collected for the Bureau of U.S. Citizenship and Immigration Services):
(a) Petition to classify status of alien relative for issuance of immigrant visa [81—USCIS I-130 Petition] | $185.
(b) Petition to classify orphan as an immediate relative [82—USCIS I-600 Petition] | $525.
32. Immigrant visa application processing fee (per person) [31—IV Application] | $335.
33. Diversity Visa Lottery surcharge for lottery participation (per person applying for an immigrant visa as a result of the lottery program) [32—DV Processing] | $375.
34. Affidavit of Support Review (only when AOS is reviewed domestically) | $70.
35. Special visa services:
(a) Determining Returning Resident Status [33—Returning Resident] | $400.
(b) Transportation letter for Legal Permanent Residents of U.S. [34—LPR Transportation Letter] | $165.
(c) Waiver of 2-year residency requirement [J Waiver] | $215.
(d) Waiver of immigrant visa ineligibility (collected for the Bureau of U.S. Citizenship and Immigration Services) [83—IV Waiver] | $250.
(e) Refugee or significant public benefit parole case processing [35—Refugee/Parole] | No fee.
(f) U.S. visa fingerprinting [36—Fingerprints] | $85.
(Item no. 36 through 40 vacant)
Documentary Services
41. Providing notarial service:
(a) First service (seal) [41—Notarial] | $30.
(b) Each additional seal provided at the same time in connection with the same transaction [42—Additional Notar] | $20.
42. Certification of a true copy or that no record of an official file can be located (by a post abroad):
(a) First copy [43—Certified Copy] | $30.
(b) Each additional copy provided at the same time [44—Additional Copy] | $20.
43. Provision of documents, certified copies of documents, and other certifications by the Department of State (domestic):
(a) Documents relating to births, marriages, and deaths of U.S. citizens abroad originally issued by a U.S. Embassy or Consulate | $30.
(b) Issuance of Replacement Report of Birth Abroad | $30.
(c) Certified copies of documents relating to births and deaths within the former Canal Zone of Panama from records maintained by the Canal Zone Government from 1904 to September 30, 1979 | $30.
(d) Certifying a copy of a document or extract from an official passport record | $30.
(e) Certifying that no record of an official file can be located [45—Brth/Mar/Death/No Record] | $30.
(f) Each additional copy provided at same time [46—Additional Cert] | $20.
44. Authentications (by posts abroad):
(a) Authenticating a foreign notary or other foreign official seal or signature | $30.
(b) Authenticating a U.S. federal, state, or territorial seal | $30.
(c) Certifying to the official status of an officer of the United States Department of State or of a foreign diplomatic or consular officer accredited to or recognized by the United States Government | $30.
(d) Each authentication [47—Authentication] | $30.
45. Exemptions: Notarial, certification, and authentication fees or passport file search fees will not be charged when the service is performed:
(a) At the direct request of any federal government agency, any state or local government, the District of Columbia, or any of the territories or possessions of the United States (unless significant costs would be incurred) [48—Documents Exempt] | No fee.
(b) With respect to documents to be presented by claimants, beneficiaries, or their witnesses in connection with obtaining federal, state, or municipal benefits [48—Documents Exempt] | No fee.
(c) For U.S. citizens outside the United States preparing ballots for any public election in the United States or any of its territories [48—Documents Exempt] | No fee.
(d) At the direct request of a foreign government or an international agency of which the United States is a member if the documents are for official noncommercial use [48—Documents Exempt] | No fee.
(e) At the direct request of a foreign government official when appropriate or as a reciprocal courtesy [48—Documents Exempt] | No fee.
(f) At the request of direct hire U.S. Government personnel, Peace Corps volunteers, or their dependents stationed or traveling officially in a foreign country [48—Documents Exempt] | No fee.
(g) With respect to documents whose production is ordered by a court of competent jurisdiction [48—Documents Exempt] | No fee.
(h) With respect to affidavits of support for immigrant visa applications [48—Documents Exempt] | No fee.
(i) With respect to endorsing U.S. Savings Bonds Certificates [48—Documents Exempt] | No fee.
(Item no. 46 through 50 vacant)
Judicial Assistance Services
51. Processing letters rogatory and Foreign Sovereign Immunities Act (FSIA) judicial assistance cases, including providing seal and certificate for return of letters rogatory executed by foreign officials: [51—Letters Rogatory] | $735.
[52—FSIA] | $735.
52. Taking depositions or executing commissions to take testimony:
(a) Scheduling/arranging appointments for depositions, including depositions by video teleconference (per daily appointment) [53—Arrange Depo] | $475.
(b) Attending or taking depositions, or executing commissions to take testimony (per hour or part thereof) [54—Depose/Hourly] | $265 per hour plus expenses.
(c) Swearing in witnesses for telephone depositions [55—Telephone Oath] | $265.
(d) Supervising telephone depositions (per hour or part thereof over the first hour) [56—Supervise Tel Depo] | $265 per hour plus expenses.
(e) Providing seal and certification of depositions [57—Deposition Cert] | $70.
53. Exemptions: Deposition or executing commissions to take testimony. Fees will not be charged when the service is performed:
(a) At the direct request of any federal government agency, any state or local government, the District of Columbia, or any of the territories or possessions of the United States (unless significant time required and/or expenses would be incurred) [58—Judicial Exempt] | No fee.
(b) Executing commissions to take testimony in connection with foreign documents for use in criminal cases when the commission is accompanied by an order of Federal court on behalf of an indigent party [59—Indigent Test] | No fee.
(Item no. 54 through 60 vacant)
Services Relating to Vessels and Seamen
61. Shipping and Seaman's services: Including but not limited to, recording a bill of sale of a vessel purchased abroad, renewal of a marine radio license, and issuance of certificate of American ownership [61—Shipping Bill of Sale] | Consular time (Item 75) plus expenses.
[62—Shipping Radio Lisc] | Consular time (Item 75) plus expenses.
[63—Shipping Cert AM Own] | Consular time (Item 75) plus expenses.
[64—Shipping Misc] | Consular time (Item 75) plus expenses.
(Item no. 62 through 70 vacant)
Administrative Services
71. Non-emergency telephone calls [70—Toll Call Cost] | Long distance charge plus.
[71—Toll Cost Surcharge] | $10.
72. Setting up and maintaining a trust account: For one year or less to transfer funds to or for the benefit of a U.S. citizen in need in a foreign country [73—OCS Trust] | $30.
73. Transportation charges incurred in the performance of fee and no-fee services when appropriate and necessary [74—Transportation] | Expenses incurred.
74. Return check processing fee [75—Return Check] | $25.
75. Consular time charges: As required by this schedule and for fee services performed away from the office or during after-duty hours (per hour or part thereof/per consular employee) [76—Consular Time] | $265.
76. Photocopies (per page) [77—Photocopy] | $1.
(Item no. 77 through 80 vacant)

Dated: July 7, 2004.
Grant S. Green,
Under Secretary of State for Management, Department of State.

[FR Doc. 04-16363 Filed 7-16-04; 8:45 am]

BILLING CODE 4710-06-P